DEPARTMENT OF ENERGY

Federal Energy Regulatory Commission

Combined Notice of Filings #1

Take notice that the Commission received the following electric corporate filings:

Docket Numbers: EC16-39-000.

Applicants: Copper Mountain Solar 2, LLC.

Description: Application for authorization of transaction under FPA section 203 and request for expedited action of Copper Mountain Solar 2, LLC.

Filed Date: 11/25/15.

Accession Number: 20151125-5408.

Comments Due: 5 p.m. ET 12/16/15.

Docket Numbers: EC16-40-000.

Applicants: Marina Energy, LLC.

Description: Application for Authorization Under Section 203 of the Federal Power Act and Request for Expedited Action of Marina Energy, LLC.

Filed Date: 11/25/15.

Accession Number: 20151125-5410.

Comments Due: 5 p.m. ET 12/16/15.

Docket Numbers: EC16-41-000.

Applicants: 8point3 Energy Partners LP, Kingbird Solar A, LLC, Kingbird Solar B, LLC.

Description: Application for Authorization Under FPA Section 203 and Request for Expedited Action of 8point3 Energy Partners LP, et al.

Filed Date: 11/25/15.

Accession Number: 20151125-5411.

Comments Due: 5 p.m. ET 12/16/15.

Docket Numbers: EC16-43-000.

Applicants: Arbuckle Mountain Wind Farm LLC, Arlington Wind Power Project LLC, Cloud County Wind Farm, LLC, Pioneer Prairie Wind Farm I, LLC, Rising Tree Wind Farm III LLC, Waverly Wind Farm LLC, Axium US Wind AcquisitionCo LLC.

Description: Application for Authorization for Disposition of Jurisdictional Facilities and Request for Expedited Action of Arbuckle Mountain Wind Farm LLC, et al.

Filed Date: 11/25/15.

Accession Number: 20151125-5427.

Comments Due: 5 p.m. ET 12/16/15.

Take notice that the Commission received the following exempt wholesale generator filings:

Docket Numbers: EG16-25-000.

Applicants: NextEra Blythe Solar Energy Center, LLC.

Description: Notice of Self-Certification of Exempt Wholesale Generator Status of NextEra Blythe Solar Energy Center, LLC.

Filed Date: 11/25/15.

Accession Number: 20151125-5262.

Comments Due: 5 p.m. ET 12/16/15.

Take notice that the Commission received the following electric rate filings:

Docket Numbers: ER10-2126-002.

Applicants: Idaho Power Company.

Description: Notice of Change in Status of Idaho Power Company.

Filed Date: 11/25/15.

Accession Number: 20151125-5430.

Comments Due: 5 p.m. ET 12/16/15.

Docket Numbers: ER10-2331-046; ER14-630-022; ER10-2319-037; ER10-2317-037; ER13-1351-019; ER10-2330-044.

Applicants: J.P. Morgan Ventures Energy Corporation, AlphaGen Power LLC, BE Alabama LLC, BE CA LLC, Florida Power Development LLC, Utility Contract Funding, L.L.C.

Description: Notice of Non-Material Change in Status of JPMorgan Sellers.

Filed Date: 11/25/15.

Accession Number: 20151125-5432.

Comments Due: 5 p.m. ET 12/16/15.

Docket Numbers: ER10-2331-047; ER14-630-023; ER10-2319-038; ER10-2317-038; ER13-1351-020; ER10-2330-045.

Applicants: J.P. Morgan Ventures Energy Corporation, AlphaGen Power LLC, BE Alabama LLC, BE CA LLC, Florida Power Development LLC, Utility Contract Funding, L.L.C.

Description: Notice of Non-Material Change in Status of JPMorgan Sellers.

Filed Date: 11/25/15.

Accession Number: 20151125-5436.

Comments Due: 5 p.m. ET 12/16/15.

Docket Numbers: ER10-3168-014; ER10-2531-005.

Applicants: ArcLight Energy Marketing, LLC, Cedar Creek Wind Energy, LLC.

Description: Notice of Non-Material Change in Status of ArcLight Energy Marketing, LLC, et al.

Filed Date: 11/25/15.

Accession Number: 20151125-5437.

Comments Due: 5 p.m. ET 12/16/15.

Docket Numbers: ER13-342-009.

Applicants: CPV Shore, LLC.

Description: Notice of Change in Status of CPV Shore, LLC.

Filed Date: 11/25/15.

Accession Number: 20151125-5431.

Comments Due: 5 p.m. ET 12/16/15.

Docket Numbers: ER15-1919-004.

Applicants: California Independent System Operator Corporation.

Description: Compliance filing: Compliance filing—EIM Year 1 Enhancements to be effective 11/4/2015.

Filed Date: 11/25/15.

Accession Number: 20151125-5361.

Comments Due: 5 p.m. ET 12/16/15.

Docket Numbers: ER16-136-001.

Applicants: PJM Interconnection, L.L.C.

Description: Tariff Amendment: Errata to Filing in ER16-136-000 to Correct Proposed Effective Date to be effective 10/21/2015.

Filed Date: 11/25/15.

Accession Number: 20151125-5358.

Comments Due: 5 p.m. ET 12/16/15.

Docket Numbers: ER16-397-000.

Applicants: Cottonwood Solar, LLC.

Description: Compliance filing: Compliance Filing—Removal of Affiliate Waiver to be effective 11/1/2015.

Filed Date: 11/25/15.

Accession Number: 20151125-5261.

Comments Due: 5 p.m. ET 12/16/15.

Docket Numbers: ER16-398-000.

Applicants: New York Independent System Operator, Inc.

Description: § 205(d) Rate Filing: Section 205 filing tariff amendments to OATT Attachment F to be effective 1/1/2016.

Filed Date: 11/25/15.

Accession Number: 20151125-5289.

Comments Due: 5 p.m. ET 12/16/15.

Docket Numbers: ER16-400-000.

Applicants: Pacific Gas and Electric Company.

Description: § 205(d) Rate Filing: November 2015 Western WDT Service Agreement Biannual Filing to be effective 2/1/2016.

Filed Date: 11/25/15.

Accession Number: 20151125-5324.

Comments Due: 5 p.m. ET 12/16/15.

Docket Numbers: ER16-401-000.

Applicants: Pacific Gas and Electric Company.

Description: § 205(d) Rate Filing: November 2015 Western Interconnection Agreement Biannual Filing to be effective 2/1/2016.

Filed Date: 11/25/15.

Accession Number: 20151125-5332.

Comments Due: 5 p.m. ET 12/16/15.

Docket Numbers: ER16-402-000.

Applicants: Imperial Valley Solar Company (IVSC) 2, LLC.

Description: Compliance filing: Compliance Filing—Removal of Affiliate Waiver to be effective 11/1/2015.

Filed Date: 11/25/15.

Accession Number: 20151125-5334.

Comments Due: 5 p.m. ET 12/16/15.

Docket Numbers: ER16-403-000.

Applicants: Pavant Solar LLC.

Description: Compliance filing: Compliance Filing—Pavant Removal of Affiliate Waiver 112515 to be effective 11/1/2015.

Filed Date: 11/25/15.

Accession Number: 20151125-5354.

Comments Due: 5 p.m. ET 12/16/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 27, 2015.
Nathaniel J. Davis, Sr.,
Deputy Secretary.

[FR Doc. 2015-30567 Filed 12-2-15; 8:45 am]

BILLING CODE 6717-01-P